DEPARTMENT OF VETERANS AFFAIRS

38 CFR Parts 18 and 21

RIN 2900-AI36

Spouse and Surviving Spouse; Technical Amendment

AGENCY: Department of Veterans Affairs.

ACTION: Final rule; correcting amendments.

SUMMARY: The Department of Veterans Affairs published a document on February 6, 1997, amending 38 CFR part 3 by removing § 3.51. At that time, we failed to remove all the cross-references to 38 CFR 3.51 in other parts of 38 CFR. This document corrects that error by removing those cross-references.

DATES: Effective Date: June 10, 2011.

FOR FURTHER INFORMATION CONTACT: Molly McCann, Office of Regulation Policy and Management (02REG), Department of Veterans Affairs, 810 Vermont Avenue, NW., Washington, DC 20420, (202) 461-4902. (This is not a toll-free number).

SUPPLEMENTARY INFORMATION: On February 6, 1997 (62 FR 5528), VA amended 38 CFR part 3 to eliminate gender-specific language. As part of that amendment, VA removed 38 CFR 3.51. At that time, we failed to remove all the cross-references to 38 CFR 3.51 in other parts of 38 CFR. As § 3.51 has been removed, any cross-references to it are obsolete and should have been eliminated. This document corrects those sections which refer to 38 CFR 3.51 by removing the cross-reference. These nonsubstantive technical corrections are made for clarity and accuracy. With this action, VA is amending 38 CFR part 18, Subpart E, Appendix B and 38 CFR 21.260(d), which contain cross-references to 38 CFR 3.51.

Administrative Procedure Act

This action is a technical correction to cross-references in two regulations. Accordingly, it is exempt from the prior notice-and-comment and delayed-effective-date requirements of 5 U.S.C. 553.

List of Subjects

38 CFR Part 18

Administrative practice and procedure, Aged, Authority delegations, Blind, Buildings, Civil rights, Employment, Equal educational opportunity, Equal employment opportunity, Grant programs, Handicapped, Investigations.

38 CFR Part 21

Administrative practice and procedure, Armed forces, Civil rights, Claims, Colleges and universities, Conflict of interests, Education, Employment, Grant programs—education, Grant programs—veterans, Health care, Loan programs—education, Loan programs—veterans, Manpower training programs, Reporting and recordkeeping requirements, Schools, Travel and transportation expenses, Veterans, Vocational education, Vocational rehabilitation.

William F. Russo,
Deputy Director, Office of Regulation Policy and Management, Office of the General Counsel, Department of Veterans Affairs.

For the reasons set out in the preamble, 38 CFR parts 18 and 21 are correctly amended as follows:

PART 18—NONDISCRIMINATION IN FEDERALLY-ASSISTED PROGRAMS OF THE DEPARTMENT OF VETERANS AFFAIRS—EFFECTUATION OF TITLE VI OF THE CIVIL RIGHTS ACT OF 1964

1. The authority citation for 38 CFR part 18, subpart E continues to read as follows:

Authority: Age Discrimination Act of 1975, as amended, 42 U.S.C. 6101, et seq.; 45 CFR part 90 (1979).

Appendix B to Subpart E [Amended]

2. Amend Appendix B to Subpart E, at the table titled “Age Distinctions in Regulations Governing Federal Financial Assistance Programs of the Department of Veterans Affairs,” third column, last paragraph, by removing “3.51,”.

PART 21—VOCATIONAL REHABILITATION AND EDUCATION

3. The authority citation for part 21, subpart A continues to read as follows:

Authority: 38 U.S.C. 501(a), chs. 18, 31, and as noted in specific sections.

§ 21.260 [Amended]

4. Amend § 21.260(d) by removing “3.51,”.

[FR Doc. 2011-14401 Filed 6-9-11; 8:45 am]

BILLING CODE 8320-01-P